ENVIRONMENTAL PROTECTION AGENCY

[ER-FRL-9052-2]

Environmental Impact Statements; Notice of Availability

Responsible Agency: Office of Federal Activities, General Information 202-564-5632 or https://www.epa.gov/nepa.

Weekly receipt of Environmental Impact Statements (EIS)

Filed July 27, 2020 10 a.m. EST Through August 03, 2020 10 a.m. EST

Pursuant to 40 CFR 1506.9.

Notice: Section 309(a) of the Clean Air Act requires that EPA make public its comments on EISs issued by other Federal agencies. EPA's comment letters on EISs are available at: https://cdxnodengn.epa.gov/cdx-enepa-public/action/eis/search.

EIS No. 20200159, Final, USFS, WAPA, CO, Reauthorization of transmission line permits, maintenance and vegetation management on Forest Service lands in Colorado, Nebraska and Utah, Review Period Ends: 09/23/2020, Contact: Matthew Blevins 720-962-7261.

EIS No. 20200160, Final Supplement, CHSRA, CA, California High-Speed Rail: Merced to Fresno Section: Central Valley Wye: Final Supplemental Environmental Impact Report/Environmental Impact Statement, Review Period Ends: 09/08/2020, Contact: Dan McKell 916-330-5668.

EIS No. 20200161, Draft Supplement, BR, CA, Shasta Lake Water Resources Investigation, Comment Period Ends: 09/21/2020, Contact: David Brick 916-202-7158.

EIS No. 20200162, Draft Supplement, BIA, NV, Arrow Canyon Solar Project, Comment Period Ends: 09/21/2020, Contact: Chip Lewis 602-379-6750.

Amended Notice

EIS No. 20200111, Draft, CHSRA, CA, Burbank to Los Angeles Project Section Draft Environmental Impact Report/Environmental Impact Statement, Comment Period Ends: 08/31/2020, Contact: Dan McKell 916-330-5668. Revision to FR Notice Published 6/26/2020; Extending the Comment Period from 7/31/2020 to 8/31/2020.

EIS No. 20200135, Draft, CHSRA, CA, California High-Speed Rail: San Francisco to San Jose Project Section: Draft Environmental Impact Report/Environmental Impact Statement, Comment Period Ends: 09/09/2020, Contact: Dan McKell 916-330-5668. Revision to FR Notice Published 7/10/2020; Extending the Comment Period from 8/24/2020 to 9/9/2020.

Dated: August 3, 2020.
Cindy S. Barger,
Director, NEPA Compliance Division, Office of Federal Activities.

[FR Doc. 2020-17311 Filed 8-6-20; 8:45 am]

BILLING CODE 6560-50-P